DEPARTMENT OF AGRICULTURE

Forest Service

The Nevada and Placer Counties Resource Advisory Committee

AGENCY: Forest Service, USDA.

ACTION: Notice of meeting.

SUMMARY: The Nevada and Placer Counties Resource Advisory Committee (RAC) will meet on February 6, 2020, in Nevada City, California. The committee is authorized under the Secure Rural Schools and Community Self-Determination Act of 2000 (the Act) as reauthorized by Public Law 114-10 and operates in compliance with the Federal Advisory Committee Act. The purpose of the committee is to improve collaborative relationships and to provide advice and recommendations to the Forest Service concerning projects and funding consistent with Title II of the Act. RAC information can be found at the following website: https://cloudapps-usda-gov.secure.force.com/FSSRS/RAC_Page?id=001t0000002JcwUAAS.

DATES: The meeting will be held Thursday, February 6, 2020, at 10:30 a.m. All RAC meetings are subject to cancellation. In the case of inclrnment weather, a backup meeting is scheduled for Friday, February 7, 2020, at the same time and location. For status of meeting prior to attendance, please contact the person listed under For Further Information Contact.

ADDRESSES: The meeting will be held at the Tahoe National Forest Supervisors Office SO conference room, 631 Coyote Street, Nevada City, CA 95959.

Written comments may be submitted as described under Supplementary Information. All comments, including names and addresses when provided, are placed in the record and are available for public inspection and copying. The public may inspect comments received at 631 Coyote Street, Nevada City, California 95959. Please call ahead to facilitate entry into the building.

FOR FURTHER INFORMATION CONTACT: Joe Flannery, Committee Coordinator by phone at (530) 478-6205 or via email at joseph.flannery@usda.gov. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Welcome and oriententation of members

2. Federal Advisory Committee Act review

3. Validation of project ranking criteria and voting process

4. Project proponent presentations

5. Review and selection of project proposals

The meeting is open to the public. The agenda will include time for people to make oral statements of three minutes or less. Individuals wishing to make an oral statement should request in writing by January 24, 2020, to be scheduled on the agenda. Anyone who would like to bring related matters to the attention of the committee may file written statements with the committee staff before or after the meeting. Written comments and requests for time to make oral comments must be sent to Joe Flannery, Committee Coordinator, 631 Coyote Street, Nevada City, CA 95959; by email to joseph.flannery@usda.gov, or via phone to (530) 478-6109.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: January 13, 2020.
Cikena Reid,
USDA, Committee Management Officer.

[FR Doc. 2020-00620 Filed 1-15-20; 8:45 am]

BILLING CODE 3411-15-P